ENVIRONMENTAL PROTECTION AGENCY

[FRL-7448-3]

Jack Goins Waste Oil Superfund Site/Cleveland,Tennessee; Notice of Proposed Settlement

AGENCY: Environmental Protection Agency.

ACTION: Notice of proposed settlement.

SUMMARY: Under section 122(h)(1) of the Comprehensive Environmental Response, Compensation, and Liability Act (CERCLA), the Environmental Protection Agency (EPA) has proposed to settle claims for response costs at the Jack Goins Waste Oil Superfund Site (Site) located in Cleveland, Tennessee, with Jack L. Goins, Susie T. Goins, Jack Goins Waste Oil Pumping Service, and Frances L. Lockmiller. EPA will consider public comments on the proposed settlement for thirty days. EPA may withdraw from or modify the proposed settlement should such comments disclose facts or considerations which indicate the proposed settlement is inappropriate, improper, or inadequate. Copies of the proposed settlement are available from: Ms. Paula V. Batchelor, U.S. Environmental Protection Agency, Region IV, Waste Management Division, 61 Forsyth Street, SW., Atlanta, Georgia 30303, (404) 562-8887.

Written comment may be submitted to Mr. Greg Armstrong at the above address within 30 days of the date of publication.

Dated: January 15, 2003.
Anita L. Davis,
Acting Chief, CERCLA Program Services Branch, Waste Management Division.

[FR Doc. 03-2769 Filed 2-4-03; 8:45 am]

BILLING CODE 6560-50-P